DEPARTMENT OF THE TREASURY

Office of Foreign Assets Control

Update of Entities and Vessels Identified Pursuant to the Iranian Transactions and Sanctions Regulations and Executive Order 13599

AGENCY: Office of Foreign Assets Control, Treasury.

ACTION: Notice.

SUMMARY: The Treasury Department's Office of Foreign Assets Control (“OFAC”) is publishing updated information of eight entities and eight vessels previously identified as the Government of Iran or as property of the Government of Iran under the Iranian Transactions and Sanctions Regulations (the “ITSR”), 31 CFR Part 560, and Executive Order 13599, and has revised the entries on OFAC's list of Specially Designated Nationals and Blocked Persons to reflect the new information.

DATES: The updates made by the Director of OFAC of the entities and vessels identified in this notice, pursuant to the ITSR and Executive Order 13599, are effective on July 29, 2014.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1 (a) of the Order blocks, with certain exceptions, all property and interests in property of the Government of Iran, including the Central Bank of Iran, that are in the United States, that hereafter come within the United States, or that are or hereafter come within the possession or control of any United States person, including any foreign branch.

Section 7(d) of the Order defines the term “Government of Iran” to mean the Government of Iran, any political subdivision, agency, or instrumentality thereof, including the Central Bank of Iran, and any person owned or controlled by, or acting for or on behalf of, the Government of Iran.

The ITSR implements Section 1(a) of the Order. Section 560.304 of the ITSR defines the term “Government of Iran” to include: “(a) The state and the Government of Iran, as well as any political subdivision, agency, or instrumentality thereof, including the Central Bank of Iran; (b) Any entity owned or controlled directly or indirectly by the foregoing; (c) Any person to the extent that such person is, or has been, since the effective date, acting or purporting to act, directly or indirectly, on behalf of any of the foregoing; and (d) Any other person determined by the Office of Foreign Assets Control to be included within [ (a) through (c)].” Section 560.313 of the ITSR further defines an “entity owned or controlled by the Government of Iran” to include “any corporation, partnership, association, or other entity in which the Government of Iran owns a 50 percent or greater interest or a controlling interest, and any entity which is otherwise controlled by that government.”

On July 29, 2014, the Director of OFAC identified amended address information of eight entities and new names and/or flagging information of eight vessels previously identified as the Government of Iran or property in which the Government of Iran has an interest that are blocked pursuant to the Order and the ITSR and, accordingly, revised the entries on OFAC's list of Specially Designated Nationals and Blocked Persons to reflect the new information.

The listing for these entities and vessels is as follows:

Entities

1. GRACE BAY SHIPPING INC, Care of Sambouk Shipping FCZ, 1st Floor, FITCO Building No 3, Inside Fujairah Port, PO Box 50044, Fujairah, United Arab Emirates; Trust Company Complex, Ajeltake Road, Ajeltake Island, Majuro MH96960, Marshall Islands; Additional Sanctions Information—Subject to Secondary Sanctions [IRAN].

2. MONSOON SHIPPING LTD, Care of Sambouk Shipping FCZ, Office 101, 1st Floor, FITCO Building No 3, Inside Fujairah Port, PO Box 50044, Fujairah, United Arab Emirates; Valletta, Malta; Trust Company Complex, Ajeltake Road, Ajeltake Island, Majuro MH96960, Marshall Islands; Additional Sanctions Information—Subject to Secondary Sanctions [IRAN].

3. BLUE TANKER SHIPPING SA, Care of Sambouk Shipping FCZ, Office 101, 1st Floor, FITCO Building No 3, Inside Fujairah Port, PO Box 50044, Fujairah, United Arab Emirates; Majuro MH, Marshall Islands; Liberia; Additional Sanctions Information—Subject to Secondary Sanctions [IRAN].

4. GARBIN NAVIGATION LTD, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

5. KONING MARINE CORP, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

6. JUPITER SEAWAYS SHIPPING, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

7. HERCULES INTERNATIONAL SHIP, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

8. HERMIS SHIPPING SA, Care of Sambouk Shipping FCZ, Office 101, 1st Floor, FITCO Building No 3, Inside Fujairah Port, PO Box 50044, Fujairah, United Arab Emirates; Panama City, Panama; Monrovia, Liberia; Additional Sanctions Information—Subject to Secondary Sanctions [IRAN].

Vessels

9. BRIGHT (f.k.a. ZAP) Crude Oil Tanker Mongolia flag; Former Vessel Flag Liberia; Vessel Registration Identification IMO 9005235 (vessel) [IRAN].

10. CARIBO (f.k.a. NEREYDA) Crude Oil Tanker Panama flag; Vessel Registration Identification IMO 9011246 (vessel) [IRAN].

11. HUMANITY (f.k.a. OCEAN NYMPH) Crude Oil Tanker Mongolia flag; Former Vessel Flag Panama; Vessel Registration Identification IMO 9180281 (vessel) [IRAN].

12. ATLANTIC (f.k.a. SEAGULL) Crude Oil Tanker Liberia flag; Vessel Registration Identification IMO 9107655 (vessel) [IRAN].

13. DESTINY (f.k.a. ULYSSES 1) Crude Oil Tanker Mongolia flag; Former Vessel Flag Liberia; Vessel Registration Identification IMO 9177155 (vessel) [IRAN].

14. AURA (f.k.a. OCEAN PERFORMER) Crude Oil Tanker Mongolia flag; Former Vessel Flag Liberia; Vessel Registration Identification IMO 9013749 (vessel) [IRAN].

15. BICAS (f.k.a. GLAROS) Crude Oil Tanker Liberia flag; Vessel Registration Identification IMO 9077850 (vessel) [IRAN].

16. ORIENTAL (f.k.a. LEYCOTHEA) Crude Oil Tanker Unknown flag; Former Vessel Flag Panama; Vessel Registration Identification IMO 9183934 (vessel) [IRAN].

Dated: September 8, 2014.
Adam J. Szubin,
Director, Office of Foreign Assets Control.

[FR Doc. 2014-21901 Filed 9-12-14; 8:45 am]

BILLING CODE 4810-AL-P